DEPARTMENT OF ENERGY

Federal Energy Regulatory Commission

[Docket No. PF15-22-000]

Equitrans, L.P.; Notice of Intent To Prepare an Environmental Impact Statement for the Planned Equitrans Expansion Project, and Request for Comments on Environmental Issues

The staff of the Federal Energy Regulatory Commission (FERC or Commission) will discuss the potential environmental effects of the Equitrans Expansion Project (EEP, or Project) involving construction and operation of facilities by Equitrans, L.P. (Equitrans) in Allegheny, Washington, and Green Counties, Pennsylvania and Wetzel County, West Virginia, in the Commission's environmental impact statement (EIS) currently under preparation for the planned Mountain Valley Pipeline (MVP) Project (FERC Docket No. PF15-3-000). The Project is designed to transport natural gas from the northern portion of Equitrans' system south to a future interconnection with MVP, as well as existing interconnects on the southern portion of Equitrans' system with Texas Eastern Transmission, LP and Dominion Transmission, Inc. Because of the interconnection with MVP, the Commission staff will evaluate the two projects jointly in the EIS. This EIS will be used by the Commission in its decision-making process to determine whether the MVP and EEP Projects are in the public convenience and necessity.

This notice announces the opening of the scoping process the Commission will use to gather input from the public and interested agencies on the EEP. You can make a difference by providing us with your specific comments or concerns about the Project. Your comments should focus on the potential environmental effects, reasonable alternatives, and measures to avoid or lessen environmental impacts. Your input will help the Commission staff determine what issues they need to evaluate in the EIS. To ensure that your comments are timely and properly recorded, please send your comments so that the Commission receives them in Washington, DC on or before September 14, 2015.

If you sent comments on the EEP to the Commission before the opening of this docket on April 9, 2015, you will need to re-file those comments in Docket No. PF15-22-000 to ensure they are considered as part of this proceeding. This scoping period is established to receive comments on the EEP, and comments previously filed with the FERC regarding the MVP Project should not be refiled under the EEP docket.

This notice is being sent to the Commission's current environmental mailing list for this Project. State and local government representatives should notify their constituents of this planned Project and encourage them to comment on their areas of concern.

If you are a landowner receiving this notice, a representative of Equitrans may contact you about the acquisition of an easement to construct, operate, and maintain the planned facilities. The company would seek to negotiate a mutually acceptable agreement. However, if the Commission approves the Project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Public Participation

For your convenience, there are three methods you can use to submit your comments to the Commission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (PF15-22-000) with your submission: Kimberly D. Bose, Secretary, Federal Energy Regulatory Commission, 888 First Street NE., Room 1A, Washington, DC 20426.

Summary of the Planned Project

According to Equitrans, the EEP is designed to allow shippers the flexibility of transporting up to 600,000 dekatherms per day of natural gas produced in the Appalachian Basin to potential markets in the Northeast, Mid-Atlantic, and Southeastern United States. The EEP would consist of the following facilities:

• A new 3.0-mile-long, 30-inch-diameter pipeline and a new 4.2-mile-long, 20-inch-diameter pipeline in Allegheny and Washington Counties Pennsylvania (H-316 Pipeline and H-318 Pipeline);

• a new Redhook Compressor Station, to replace the existing Pratt Compressor Station in Green County, Pennsylvania;

• an interconnect with the planned MVP Project and a tap on Equitrans' existing H-302 pipeline in Wetzel County, West Virginia (Webster Interconnection and Mobley Tap);

• a new extension of an existing 6-inch-diameter pipeline and an existing 12-inch-diameter pipeline extending for 0.2-mile in Green County, Pennsylvania (M-80 Pipeline and H-158 Pipeline);

• a new approximately 200-foot-long, 16-inch-diameter pipeline in Wetzel County, West Virginia (H-319 Pipeline);

• a new approximately 55-foot-long extension of an existing 12-inch pipeline in Green County, Pennsylvania (H-305 Pipeline);

• pig launchers and receivers; ¹ and

¹ A “pig” is a tool that the pipeline company inserts into and pushes through the pipeline for cleaning the pipeline, conducting internal inspections, or other purposes.

• four meter and regulation stations.

The general location of the Project facilities is shown in appendix 1.

Land Requirements for Construction

Construction of the planned facilities would disturb approximately 207 acres of land for the aboveground facilities and the pipelines. Following construction, Equitrans would maintain approximately 64 acres for permanent operation of the Project's facilities; the remaining acreage would be restored and revert to former uses. The actual acreage affected will be determined more precisely as Project design proceeds and likely will increase above these preliminary estimates.

The EIS Process

The National Environmental Policy Act (NEPA) requires the Commission to take into account the environmental impacts that could result from an action whenever it considers the issuance of a Certificate of Public Convenience and Necessity. The NEPA also requires us ² to discover and address concerns the public may have about proposals. This process is referred to as scoping. The main goal of the scoping process is to focus the analysis in the EIS on the important environmental issues. By this notice, the Commission requests public comments on the scope of the issues to address in the EIS. We will consider all filed comments during the preparation of the EIS.

² The pronouns “we”, “us”, and “our” refer to the environmental staff of the Commission's Office of Energy Projects.

In the EIS we will discuss impacts that could occur as a result of the construction and operation of the planned project under these general headings:

• Geology and soils;

• water resources and wetlands;

• cultural resources;

• vegetation and wildlife;

• cultural resources;

• land use, recreation, and visual resources;

• air quality and noise;

• public safety; and

• cumulative impacts.

The EIS will present our independent analysis of the issues. We will evaluate possible alternatives to the planned Project or portions of the Project. For specific resources, we would make recommendations on how to avoid, minimize, or mitigate impacts, in addition to the measures proposed by Equitrans.

Although no formal application has been filed, we have already initiated our environmental review under the Commission's pre-filing process. The purpose of the pre-filing process is to encourage early involvement of interested stakeholders and to identify and resolve issues before the FERC receives an application. As part of our pre-filing review, we have begun to contact some federal and state agencies to discuss their involvement in the scoping process and the preparation of the EIS.

We will publish and distribute the draft EIS for public comment. After the comment period, we will consider all timely comments and revise the document, as necessary, before issuing a final EIS. To ensure we have the opportunity to consider and address your comments, please carefully follow the instructions in the Public Participation section of this notice.

With this notice, we are asking agencies with jurisdiction by law and/or special expertise with respect to the environmental issues related to this project to formally cooperate with us in the preparation of the EIS.³ Agencies that would like to request cooperating agency status should follow the instructions for filing comments provided under the Public Participation section of this notice. The U.S. Department of Agriculture Forest Service, U.S. Army Corps of Engineers, U.S. Environmental Protection Agency, U.S. Department of Transportation, West Virginia Department of Natural Resources, and the West Virginia Department of Environment Protection have already agreed to be cooperating agencies in the development of the EIS for the MVP Project.

³ The Council on Environmental Quality regulations addressing cooperating agency responsibilities are at Title 40, Code of Federal Regulations, part 1501.6.

Consultations Under Section 106 of the National Historic Preservation Act

In accordance with the Advisory Council on Historic Preservation's implementing regulations for section 106 of the National Historic Preservation Act, we are using this notice to initiate consultation with the applicable State Historic Preservation Office(s), and to solicit their views and those of other government agencies, interested Indian tribes, and the public on the Project's potential effects on historic properties.⁴ We will define the Project-specific Area of Potential Effects (APE) in consultation with the SHPO(s) as the Project develops. On natural gas facility projects, the APE at a minimum encompasses all areas subject to ground disturbance (examples include construction right-of-way, contractor/pipe storage yards, compressor stations, and access roads). Our EIS for this Project will document our findings on the impacts on historic properties and summarize the status of consultations under section 106.

⁴ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the planned facilities and the environmental information provided by Equitrans. This preliminary list of issues may change based on your comments and our analysis:

• Steep slopes;

• erosion control;

• alternatives and their potential impacts on a range of resources; and

• cumulative impacts.

Environmental Mailing List

The environmental mailing list includes federal, state, and local government representatives and agencies; elected officials; environmental and public interest groups; Indian Tribes; other interested parties; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the planned Project.

Copies of the completed draft EIS will be sent to the environmental mailing list for public review and comment. If you would prefer to receive a paper copy of the document instead of the compact disc version or would like to remove your name from the mailing list, please return the attached Information Request (appendix 2).

Becoming an Intervenor

Once Equitrans files its application with the Commission, you may want to become an “intervenor,” which is an official party to the Commission's proceeding. Intervenors play a more formal role in the process and are able to file briefs, appear at hearings, and be heard by the courts if they choose to appeal the Commission's final ruling. An intervenor formally participates in the proceeding by filing a request to intervene. Motions to intervene are more fully described at http://www.ferc.gov/resources/guides/how-to/intervene.asp. Instructions for becoming an intervenor are in the “Document-less Intervention Guide” under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF15-22). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits, if scheduled, will be posted on the Commission's calendar located at www.ferc.gov/EventCalendar/EventsList.aspx along with other related information.

Dated: August 11, 2015.
Kimberly D. Bose,
Secretary.

[FR Doc. 2015-20199 Filed 8-14-15; 8:45 am]

BILLING CODE 6717-01-P